DEPARTMENT OF ENERGY

Federal Energy Regulatory Commission

Combined Notice of Filings

Take notice that the Commission has received the following Natural Gas Pipeline Rate and Refund Report filings:

Filings Instituting Proceedings

Docket Number: PR22-26-000.

Applicants: Enable Oklahoma Intrastate Transmission, LLC.

Description: Submits tariff filing per 284.123(b),(e)+: Enable Revised Fuel Percentages April 1, 2022 through March 31, 2023 to be effective 4/1/2022.

Filed Date: 2/28/2022.

Accession Number: 20220228-5053.

Comments Due: 5 p.m. ET 3/21/22.

284.123(g) Protests Due: 5 p.m. ET 4/29/22.

Docket Numbers: PR22-27-000.

Applicants: Bay Gas Storage Company, LLC.

Description: Submits tariff filing per 284.123(b),(e)/: Bay Gas Storage LAUF Filing to be effective 3/1/2022.

Filed Date: 3/1/2022.

Accession Number: 20220301-5268.

Comments/Protest Due: 5 p.m. ET 3/22/22.

Docket Numbers: RP22-635-000.

Applicants: ANR Pipeline Company.

Description: Request for Waiver of Tariff Provision of ANR Pipeline Company.

Filed Date: 2/28/22.

Accession Number: 20220228-5388.

Comment Date: 5 p.m. ET 3/07/22.

Docket Numbers: RP22-650-000.

Applicants: Cheniere Corpus Christi Pipeline, LP.

Description: Compliance filing: CCCP Semi-Annual Transportation Retainage Adjustment Filing to be effective 4/1/2022.

Filed Date: 3/1/22.

Accession Number: 20220301-5047.

Comment Date: 5 p.m. ET 3/14/22.

Docket Numbers: RP22-651-000.

Applicants: Rockies Express Pipeline LLC.

Description: Compliance filing: REX 2022-03-01 Fuel and L&U Reimbursement Percentages and Power Cost Charges to be effective N/A.

Filed Date: 3/1/22.

Accession Number: 20220301-5048.

Comment Date: 5 p.m. ET 3/14/22.

Docket Numbers: RP22-652-000.

Applicants: Northern Natural Gas Company.

Description: § 4(d) Rate Filing: 20220301 Miscellaneous Filing to be effective 4/1/2022.

Filed Date: 3/1/22.

Accession Number: 20220301-5069.

Comment Date: 5 p.m. ET 3/14/22.

Docket Numbers: RP22-653-000.

Applicants: WBI Energy Transmission, Inc.

Description: § 4(d) Rate Filing: 2022 Negotiated & Non-Conforming SA—ONEOK to be effective 4/1/2022.

Filed Date: 3/1/22.

Accession Number: 20220301-5073.

Comment Date: 5 p.m. ET 3/14/22.

Docket Numbers: RP22-654-000.

Applicants: Columbia Gas Transmission, LLC.

Description: § 4(d) Rate Filing: MCRM 2022 to be effective 4/1/2022.

Filed Date: 3/1/22.

Accession Number: 20220301-5086.

Comment Date: 5 p.m. ET 3/14/22.

Docket Numbers: RP22-655-000.

Applicants: Discovery Gas Transmission LLC.

Description: § 4(d) Rate Filing: Discovery Gas Transmission LLC submits tariff filing per 154.204 Negotiated Rates to be effective 4/1/2022.

Filed Date: 3/1/22.

Accession Number: 20220301-5089.

Comment Date: 5 p.m. ET 3/14/22.

Docket Numbers: RP22-656-000.

Applicants: Transcontinental Gas Pipe Line Company, LLC.

Description: § 4(d) Rate Filing: Negotiated Rates—Cherokee AGL—Replacement Shippers—Mar 2022 to be effective 3/1/2022.

Filed Date: 3/1/22.

Accession Number: 20220301-5098.

Comment Date: 5 p.m. ET 3/14/22.

Docket Numbers: RP22-657-000.

Applicants: Cheniere Corpus Christi Pipeline, LP.

Description: Compliance filing: CCCP Electric Power Cost Adjustment to be effective 4/1/2022.

Filed Date: 3/1/22.

Accession Number: 20220301-5124.

Comment Date: 5 p.m. ET 3/14/22.

Docket Numbers: RP22-658-000.

Applicants: Algonquin Gas Transmission, LLC.

Description: § 4(d) Rate Filing: Negotiated Rates—Various Releases eff 3-1-2022 to be effective 3/1/2022.

Filed Date: 3/1/22.

Accession Number: 20220301-5127.

Comment Date: 5 p.m. ET 3/14/22.

Docket Numbers: RP22-659-000.

Applicants: El Paso Natural Gas Company, L.L.C.

Description: § 4(d) Rate Filing: Non-Conforming Agreements Update (Atmos) to be effective 4/1/2022.

Filed Date: 3/1/22.

Accession Number: 20220301-5131.

Comment Date: 5 p.m. ET 3/14/22.

Docket Numbers: RP22-660-000.

Applicants: NEXUS Gas Transmission, LLC.

Description: § 4(d) Rate Filing: Negotiated Rates—Various Releases eff 3-1-22 to be effective 3/1/2022.

Filed Date: 3/1/22.

Accession Number: 20220301-5134.

Comment Date: 5 p.m. ET 3/14/22.

Docket Numbers: RP22-661-000.

Applicants: WBI Energy Transmission, Inc.

Description: § 4(d) Rate Filing: 2022 Annual Fuel & Electric Power Reimbursement Adjustment to be effective 4/1/2022.

Filed Date: 3/1/22.

Accession Number: 20220301-5146.

Comment Date: 5 p.m. ET 3/14/22.

Docket Numbers: RP22-662-000.

Applicants: Equitrans, L.P.

Description: § 4(d) Rate Filing: Negotiated Rate Capacity Release Agreements—3/1/2022 to be effective 3/1/2022.

Filed Date: 3/1/22.

Accession Number: 20220301-5165.

Comment Date: 5 p.m. ET 3/14/22.

Docket Numbers: RP22-663-000.

Applicants: Transcontinental Gas Pipe Line Company, LLC.

Description: § 4(d) Rate Filing: 2022 Annual Transco Fuel Tracker to be effective 4/1/2022.

Filed Date: 3/1/22.

Accession Number: 20220301-5166.

Comment Date: 5 p.m. ET 3/14/22.

Docket Numbers: RP22-664-000.

Applicants: Carlsbad Gateway, LLC.

Description: Compliance filing: Carlsbad Gateway Initial Tariff Filing to be effective 4/1/2022.

Filed Date: 3/1/22.

Accession Number: 20220301-5168.

Comment Date: 5 p.m. ET 3/14/22.

Docket Numbers: RP22-665-000

Applicants: Northwest Pipeline LLC.

Description: § 4(d) Rate Filing: North Seattle and South Seattle Annual Charges Update Filing 2022 to be effective 4/1/2022.

Filed Date: 3/1/22.

Accession Number: 20220301-5191.

Comment Date: 5 p.m. ET 3/14/22.

Docket Numbers: RP22-666-000.

Applicants: Tallgrass Interstate Gas Transmission, LLC.

Description: § 4(d) Rate Filing: TIGT 2022-03-01 Fuel and L&U Reimbursement and Power Cost Tracker to be effective 4/1/2022.

Filed Date: 3/1/22.

Accession Number: 20220301-5203.

Comment Date: 5 p.m. ET 3/14/22.

Docket Numbers: RP22-667-000.

Applicants: Adelphia Gateway, LLC.

Description: § 4(d) Rate Filing: Adelphia Annual Transporter's Use and System Balancing Adjustment Filing March 1 to be effective 4/1/2022.

Filed Date: 3/1/22.

Accession Number: 20220301-5208.

Comment Date: 5 p.m. ET 3/14/22.

Docket Numbers: RP22-668-000.

Applicants: Enable Gas Transmission, LLC.

Description: § 4(d) Rate Filing: Negotiated Rate Filing—March 1, 2022 Summit to be effective 3/1/2022.

Filed Date: 3/1/22.

Accession Number: 20220301-5210.

Comment Date: 5 p.m. ET 3/14/22.

Docket Numbers: RP22-669-000.

Applicants: Transcontinental Gas Pipe Line Company, LLC.

Description: § 4(d) Rate Filing: Annual Electric Power Tracker Filing Effective April 1, 2022 to be effective 4/1/2022.

Filed Date: 3/1/22.

Accession Number: 20220301-5214.

Comment Date: 5 p.m. ET 3/14/22.

Docket Numbers: RP22-670-000.

Applicants: Gulf South Pipeline Company, LLC.

Description: § 4(d) Rate Filing: Cap Rel Neg Rate Agmt (Osaka 46428 to Uniper 54890) to be effective 3/1/2022.

Filed Date: 3/1/22.

Accession Number: 20220301-5252.

Comment Date: 5 p.m. ET 3/14/22.

Docket Numbers: RP22-671-000.

Applicants: KO Transmission Company.

Description: § 4(d) Rate Filing: 2022 Transportation Retainage Adjustment to be effective 4/1/2022.

Filed Date: 3/1/22.

Accession Number: 20220301-5259.

Comment Date: 5 p.m. ET 3/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2022.
Debbie-Anne A. Reese,
Deputy Secretary.

[FR Doc. 2022-04876 Filed 3-7-22; 8:45 am]

BILLING CODE 6717-01-P